DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506 (c)(2)(A)]. This program helps to insure that requested data can be provided in the desired format; reporting burden (time and financial resources) is minimized; collection instruments are clearly understood; and the impact of collection on respondents can be properly assessed. Currently, the Employment and Training Administration (ETA) is soliciting comments concerning the proposed new collection of administrative and survey data on the Individual Training Account (ITA) experiment. A copy of the proposed information collection request (ICR) can be obtained by contacting the office listed below in the address section of this notice.

DATES: Written comments must be submitted to the office listed in the addressee section below on or before March 11, 2003.

ADDRESSES: Janet Javar, U.S. Department of Labor, Employment and Training Administration/Office of Policy and Research, Rm. N-5637, 200 Constitution Avenue, NW., Washington, DC 20210, (202) 693-3677 (this is not a toll-free number); jjavar@doleta.gov; Fax: (202) 693-2766 (this is not a toll-free number).

SUPPLEMENTARY INFORMATION

I. Background

The Individual Training Account (ITA) experiment is designed to test different approaches to managing customer choice in the administration of Individual Training Accounts (ITAs). Established under the Workforce Investment Act (WIA) of 1998, ITAs are intended to empower U.S. Department of Labor (DOL) customers to choose the training services they need.

WIA allows state and local offices a great deal of flexibility in deciding how much guidance and financial support they will provide to ITA recipients. The ITA experiment will test three approaches that differ widely in both the resources made available to customers and the involvement of local counselors to guide customer choice. The three ITA approaches range from a highly structured model to a pure voucher model:

• In Approach 1, local counselors steer their customers to training that is expected to yield a high return (in the form of increased earnings) relative to the resources invested in training. Moreover, counselors can approve or disapprove customers' program selections and set the value of the ITA to fund approved selections.

• In Approach 2, customers receive a fixed ITA award. Local counselors then help customers select training that seems appropriate and feasible, given customers' skills and their fixed ITA awards and other financial resources they have available to pay for training.

• In Approach 3, customers are offered a fixed ITA award, but they are allowed to choose any state-approved training option and to formulate their program selections independently if they so desire.

Each of the local sites that participates in the study will operate all three of these ITA approaches. Local customers that need training and are determined eligible for an ITA will be randomly assigned to one of the approaches.

The evaluation of the ITA experiment will include two parts. The first part will be an analysis of the implementation and operation of the three ITA approaches. This analysis will be based on data collected during three rounds of visits to the six sites participating in the experiment. During these visits, researchers will examine the implementation and operation of the three ITA approaches from various perspectives, including those of state and local administrators, one-stop counselors, customers, and training providers. The experiment is being conducted in Des Plaines, IL; Charlotte, NC; Atlanta, GA; Phoenix, AZ; Bridgeport, CT; and Jacksonville, FL.

The second component of the evaluation will be an analysis of customer outcomes and the returns on the investment in training.

This analysis will focus on the differences in customer outcomes, such as training choices, employment, and earnings, generated by the three ITA approaches. Data for this analysis will be drawn from Unemployment Insurance (UI) wage records and other administrative records, a computer-based Study Tracking System (STS) developed specifically for the experiment, and a follow-up survey of customers approximately 15 months after random assignment.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The data for the analysis of customer outcomes and the returns on the investment in training will come from three primary sources: (1) UI wage records, (2) UI program data, and (3) the 15-month follow-up survey of customers. UI wage records will be the primary source of employment and earnings data. The UI program data system will provide information on UI eligibility and receipt. The UI wage records and program data will be collected from the six states in which the study sites are located and up to two neighboring states in which participants in the experiment are likely to file for UI benefits or jobs.

The follow-up survey will collect data items unavailable from administrative records. It will provide more detailed information on employment outcomes—such as wage rates and fringe benefits—than UI wage records and more detailed information on household composition and other demographic characteristics. The follow-up survey will be the only source for data on: Perceptions of and attitudes toward the services and levels of customer choice provided by each ITA approach, job search behavior after random assignment, and characteristics of post-training jobs.

Type of Review: New.

Agency: Employment and Training Administration.

Title: The Evaluation of the Individual Training Account Experiment.

Agency Number: 1205-0NEW.

Affected Public: Individuals, state government.

Cite/Reference:

Cite/reference | Total respondents | Frequency | Average time per response | Burden (hours)
State administrative data request | 8 | Two times | 8 hours | 128
ITA Follow-up survey | 3,762 | One time | 30 min. | 1,881
Totals | 3,770 |  |  | 2,009

Total Burden Cost: $1,167,183.

Comments submitted in response to this comment request will be summarized and/or included in the request for Office of Management and Budget approval of the information request; they will also become a matter of public record.

Dated: January 3, 2003.
Gerard F. Fiala,
Administrator.

[FR Doc. 03-527 Filed 1-9-03; 8:45 am]

BILLING CODE 4510-30-P